INTERNATIONAL TRADE COMMISSION

[Investigation No. 337-TA-1396]

Certain Medical Programmers With Printed Circuit Boards, Components Thereof, and Products and Systems for Use With the Same; Notice of Commission Determination Not To Review an Initial Determination Terminating the Investigation in Its Entirety Based on Settlement; Termination of Investigation

AGENCY: U.S. International Trade Commission.

ACTION: Notice.

SUMMARY: Notice is hereby given that the U.S. International Trade Commission has determined not to review an initial determination (“ID”) (Order No. 30) of the presiding administrative law judge (“ALJ”) granting a joint motion of the complainants and the respondent to terminate the investigation based on settlement. The investigation is terminated.

FOR FURTHER INFORMATION CONTACT: Richard P. Hadorn, Esq., Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on April 3, 2024, based on a complaint filed by Medtronic, Inc., Medtronic Logistics, LLC, and Medtronic USA, Inc., all of Minneapolis, Minnesota, and Medtronic Puerto Rico Operations Co. of Juncos, Puerto Rico (collectively, “Medtronic”). 89 FR 23043-44 (Apr. 3, 2024). The complaint, as supplemented, alleges violations of section 337 of the Tariff Act of 1930, as amended, 19 U.S.C. 1337, based on the importation into the United States, the sale for importation, and the sale within the United States after importation of certain medical programmers with printed circuit boards, components thereof, and products and systems for use with the same by reason of the infringement of certain claims of U.S. Patent Nos. 8,712,540 (“the '540 patent”) and 9,174,059 (“the '059 patent”). Id. at 23043. The complaint further alleges that a domestic industry exists. Id. The notice of investigation (“NOI”) names one respondent, Axonics, Inc. (“Axonics”) of Irvine, California. Id. at 23044. The Office of Unfair Import Investigations (“OUII”) is also named as a party. Id.

On August 12, 2024, the Commission amended (i) the complaint to substitute “UNITED” in place of “MUNITED” on the cover page and (ii) the NOI so that the plain language description of the accused products reads “sacral neuromodulation systems to control neurostimulators surgically implanted into a human patient, components thereof, and medical programmers and printed circuit boards used in same.” Order No. 11 (July 11, 2024), unreviewed by 89 FR 66442 (Aug. 15, 2024).

On September 30, 2024, the Commission terminated the investigation as to (i) claim 17 of the '540 patent and (ii) the '059 patent in its entirety based on Medtronic's partial withdrawal of the complaint. Order No. 16 (Sept. 9, 2024), unreviewed by Comm'n Notice (Sept. 30, 2024).

On November 15, 2024, the Commission terminated the investigation as to claim 5, solely for the purposes of infringement, and claims 11, 12, 14, 15, 18, 20, 39, and 40 of the '540 patent based on Medtronic's partial withdrawal of the complaint. Order No. 21 (Oct. 31, 2024), unreviewed by Comm'n Notice (Nov. 15, 2024).

On February 10, 2025, Medtronic and Axonics filed a joint motion to terminate the investigation in its entirety based on a settlement agreement, attaching thereto confidential and non-confidential versions of the subject agreement. OUII did not file a response to the motion.

On February 11, 2025, the ALJ issued Order No. 29, which (i) ordered Medtronic and Axonics to “revise and refile the non-confidential version of the agreement required by Commission Rules 210.21(a)(2) and 210.21(b)(1) [19 CFR 210.21(a)(2) and (b)(1)], and in accordance with Commission Rule 201.6 [19 CFR 201.6],” and (ii) stated that the motion to terminate will be ruled upon after the revised non-confidential version of the agreement is refiled. Order No. 29 at 2 (Feb. 11, 2025). On February 18, 2025, Medtronic and Axonics filed a revised non-confidential version of the subject agreement.

On February 19, 2025, the ALJ issued the subject ID (Order No. 30) granting the joint motion. The ID finds that, as supplemented, the joint motion complies with the requirements of Commission Rule 210.21(b)(1), that there are “no extraordinary circumstances that warrant denying the motion,” and that “there is no evidence indicating that terminating this investigation based on the settlement agreement would be contrary to the public interest.” No petitions for review of the subject ID were filed.

The Commission has determined not to review the subject ID. The investigation is hereby terminated in its entirety.

The Commission vote for this determination took place on February 27, 2025.

The authority for the Commission's determination is contained in section 337 of the Tariff Act of 1930, as amended (19 U.S.C. 1337), and in Part 210 of the Commission's Rules of Practice and Procedure (19 CFR part 210).

By order of the Commission.
Issued: February 27, 2025.
Lisa Barton,
Secretary to the Commission.

[FR Doc. 2025-03525 Filed 3-4-25; 8:45 am]

BILLING CODE 7020-02-P